DEPARTMENT OF TRANSPORTATION

Federal Aviation Administration

14 CFR Part 39

[Docket No. FAA-2012-1164; Directorate Identifier 2012-NM-075-AD; Amendment 39-17370; AD 2013-04-12]

RIN 2120-AA64

Airworthiness Directives; Airbus Airplanes

AGENCY: Federal Aviation Administration (FAA), Department of Transportation (DOT).

ACTION: Final rule.

SUMMARY: We are adopting a new airworthiness directive (AD) for certain Airbus Model A310-204, -222, -304, -322, and -324 airplanes. This AD was prompted by the manufacturer re-classifying slat extension eccentric bolts as principle structural elements (PSE) with replacement due at or before newly calculated fatigue life limits. This AD requires replacing slat extension eccentric bolts and associated washers with new slat extension eccentric bolts and washers. We are issuing this AD to prevent fatigue cracking, which could result in the loss of structural integrity of the airplane.

DATES: This AD becomes effective April 11, 2013.

The Director of the Federal Register approved the incorporation by reference of a certain publication listed in this AD as of April 11, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Discussion

We issued a notice of proposed rulemaking (NPRM) to amend 14 CFR part 39 to include an AD that would apply to the specified products. That NPRM was published in the Federal Register on November 19, 2012 (77 FR 69391). That NPRM proposed to correct an unsafe condition for the specified products. The Mandatory Continuing Airworthiness Information (MCAI) states:

Slat extension eccentric bolts have been reclassified as Principal Structural Elements (PSE). As a result, associated fatigue lives will be published in the Airbus A310 Airworthiness Limitation Section (ALS) Part 1 and bolts must be replaced at or before their calculated fatigue lives.

Failure to replace the bolts within the new fatigue life limits constitutes an unsafe condition.

For the reasons explained above, this [European Aviation Safety Agency (EASA)] AD requires:

—for A310-300 aeroplanes, the replacement of slat extension eccentric bolts, Part Number (P/N) A57844015200, with slat extension eccentric bolts P/N A57844015204 at the slat 2 tracks 4 and 7 and slat 3 track 8 positions on both Left Hand (LH) and Right Hand (RH) wings, and

—for A310-300 and A310-200 aeroplanes that incorporate Airbus modification 04809, the replacement of slat extension eccentric bolts, P/N A57843624200 and associated washers P/N A57844016200, with slat extension eccentric bolts P/N A57843624202 and washers P/N A57844391200 at the slat 2 track 5 position, on both LH and RH wings.

You may obtain further information by examining the MCAI in the AD docket.

Comments

We gave the public the opportunity to participate in developing this AD. We received no comments on the NPRM (77 FR 69391, November 19, 2012) or on the determination of the cost to the public.

Conclusion

We reviewed the available data and determined that air safety and the public interest require adopting the AD as proposed—except for minor editorial changes. We have determined that these minor changes:

• Are consistent with the intent that was proposed in the NPRM (77 FR 69391, November 19, 2012) for correcting the unsafe condition; and

• Do not add any additional burden upon the public than was already proposed in the NPRM (77 FR 69391, November 19, 2012).

Costs of Compliance

We estimate that this AD will affect 1 product of U.S. registry. We also estimate that it will take about 9 work-hours per product to comply with the basic requirements of this AD. The average labor rate is $85 per work-hour. Required parts will cost about $25,250 per product. Where the service information lists required parts costs that are covered under warranty, we have assumed that there will be no charge for these parts. As we do not control warranty coverage for affected parties, some parties may incur costs higher than estimated here. Based on these figures, we estimate the cost of this AD to the U.S. operators to be $26,015, or $26,015 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 69391, November 19, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-04-12 Airbus: Amendment 39-17370. Docket No. FAA-2012-1164; Directorate Identifier 2012-NM-075-AD.

(a) Effective Date

This airworthiness directive (AD) becomes effective April 11, 2013.

(b) Affected ADs

None.

(c) Applicability

This AD applies to Airbus Model A310-204, -222, -304, -322, and -324 airplanes, certificated in any category, having received in production Airbus modification 04809 without Airbus modification 06243 or 13596.

(d) Subject

Air Transport Association (ATA) of America Code 57, Wings.

(e) Reason

This AD was prompted by the manufacturer re-classifying slat extension eccentric bolts as principle structural elements (PSE) with replacement due at or before newly calculated fatigue life limits. We are issuing this AD to prevent fatigue cracking, which could result in the loss of structural integrity of the airplane.

(f) Compliance

You are responsible for having the actions required by this AD performed within the compliance times specified, unless the actions have already been done.

(g) Compliance Times

At the applicable time specified in paragraphs (g)(1), (g)(2), or (g)(3) of this AD: Do the replacements specified in paragraphs (h)(1) and (h)(2) of this AD, as applicable. For the purposes of this AD, to establish the average flight time (AFT), take the accumulated flight time (counted from the take-off up to the landing) and divide it by the number of accumulated flight cycles. This gives the AFT per flight cycle.

(1) For Model A310-304, -322, and -324 airplanes operated with an AFT of less than 4 hours: Before the accumulation of 66,000 total flight hours or 40,000 total flight cycles, whichever occurs first.

(2) For Model A310-304, -322, and -324 airplanes operated with an AFT of 4 hours or more: Before the accumulation of 66,000 total flight hours or 31,400 total flight cycles, whichever occurs first.

(3) For Model A310-204 and -222 airplanes with Airbus modification 04809: Before the accumulation of 71,800 total flight hours or 35,900 total flight cycles, whichever occurs first.

(h) Replacement of Slat Extension Eccentric Bolt and Hardware on Both Wings

(1) For Model A310-304, -322, and -324 airplanes: Replace the slat extension eccentric bolts, part number (P/N) A57844015200, at the slat 2, tracks 4 and 7, and slat 3, track 8 positions with new slat eccentric extension bolts, P/N A57844015204, in accordance with the Accomplishment Instructions of Airbus Mandatory Service Bulletin A310-57-2100, Revision 01, dated February 3, 2012.

(2) For Model A310-304, -322, and -324 airplanes, and Model A310-204 and -222 airplanes that have incorporated Airbus modification 04809: Replace the slat extension eccentric bolts, P/N A57843624200, at the slat 2, track 5, position with new slat extension eccentric bolts, P/N A57843624202; and replace the associated washers of eccentric bolts, P/N A57844016200, at the slat 2, track 5, position with washers, P/N A57844391200; in accordance with the Accomplishment Instructions of Airbus Mandatory Service Bulletin A310-57-2100, Revision 01, dated February 3, 2012.

(i) Parts Installation Prohibition

After the modification of the airplane with the replacement of slat extension eccentric bolts and associated hardware required by paragraphs (g) and (h) of this AD, no person may install any slat extension eccentric bolt, P/N A57844015200 or P/N A57843624200, with associated washer P/N A57844016200, on that airplane.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to MCAI European Aviation Safety Agency Airworthiness Directive 2012-0042, dated April 10, 2012; and Airbus Mandatory Service Bulletin A310-57-2100, Revision 01, dated February 3, 2012; for related information.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Mandatory Service Bulletin A310-57-2100, Revision 01, dated February 3, 2012.

(ii) Reserved.

(3) For service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 21, 2013.
Jeffrey E. Duven,
Acting Manager, Transport Airplane Directorate, Aircraft Certification Service.

[FR Doc. 2013-04632 Filed 3-6-13; 8:45 am]

BILLING CODE 4910-13-P